DEPARTMENT OF TRANSPORTATION

Maritime Administration

[Docket No. MARAD-2010-0061]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before August 23, 2010.

FOR FURTHER INFORMATION CONTACT: Linden Houston, Maritime Administration, 1200 New Jersey Avenue, SE., Washington, DC 20590; Telephone: (202) 366-4839 or E-Mail: linden.houston@dot.gov. Copies of this collection can also be obtained from that office.

SUPPLEMENTARY INFORMATION: Title of Collection: Application for Conveyance of Port Facility Property, formerly, Port Facility Conveyance Information.

Type of Request: Extension of currently approved information collection.

OMB Control Number: 2133-0524.

Form Numbers: MA-1047.

Expiration Date of Approval: Three years from date of approval by the Office of Management and Budget.

Summary of Collection of Information: Public Law 103-160, which is included in 40 U.S.C. 554 authorizes the Department of Transportation to convey to public entities surplus Federal property needed for the development or operation of a port facility. The information collection will allow MARAD to approve the conveyance of property and administer the port facility conveyance program.

Need and Use of the Information: The information collection is necessary for MARAD to determine whether (1) the community is committed to the redevelopment plan; (2) the plan is in the best interests of the public, and (3) the property is being used in accordance with the terms of the conveyance and applicable statutes and regulations.

Description of Respondents: Eligible state and local public entities.

Annual Responses: Ten respondents.

Annual Burden: 440 burden hours.

Comments: Comments should refer to the docket number that appears at the top of this document. Written comments may be submitted to the Docket Clerk, U.S. DOT Dockets, Room W12-140, 1200 New Jersey Avenue, SE., Washington, DC 20590. Comments may also be submitted by electronic means via the Internet at http://www.regulations.gov/search/index.jsp. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://www.regulations.gov/search/index.jsp.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov/search/index.jsp.

Authority: 49 CFR 1.66.

By Order of the Maritime Administrator.
Dated: June 17, 2010.
Julie Agarwal,
Acting Secretary, Maritime Administration.

[FR Doc. 2010-15115 Filed 6-22-10; 8:45 am]

BILLING CODE 4910-81-P